DEPARTMENT OF THE INTERIOR

National Park Service

[NPS-WASO-NAGPRA-11637; 2200-1100-665]

Notice of Inventory Completion: Southern Oregon Historical Society, Medford, OR; Correction

AGENCY: National Park Service, Interior.

ACTION: Notice; correction.

SUMMARY: The Southern Oregon Historical Society has corrected an inventory of human remains and associated funerary objects published in a Notice of Inventory Completion in the Federal Register on August 24, 2012. This notice corrects the list of tribes consulted and the tribes eligible to receive disposition of the human remains and associated funerary objects listed in the earlier notice. Representatives of any Indian tribe that believes itself to be culturally affiliated with the human remains may contact the Southern Oregon Historical Society. Disposition of the human remains and associated funerary objects to the Indian tribes stated below may occur if no additional claimants come forward.

DATES: Representatives of any Indian tribe that believes it has a cultural affiliation with the human remains should contact the Southern Oregon Historical Society at the address below by January 17, 2013.

ADDRESSES: Tina Reuwsaat, Southern Oregon Historical Society, 106 N. Central Ave., Medford, OR 97501, telephone (541) 858-1724 ext. 1001.

SUPPLEMENTARY INFORMATION: Notice is here given in accordance with the Native American Graves Protection and Repatriation Act (NAGPRA), 25 U.S.C. 3003, of the correction of an inventory of human remains and associated funerary objects in the possession of the Southern Oregon Historical Society, Medford, OR.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the list of tribes consulted and the tribes eligible to receive disposition of the human remains and associated funerary objects published in a Notice of Inventory Completion in the Federal Register (77 FR 51565-51566, August 24, 2012). Following publication, an additional tribe came forward requesting to be added to the notice.

Correction

In the Federal Register (77 FR 51565-51566, August 24, 2012), paragraph six is corrected by substituting the following paragraph:

A detailed assessment of the human remains was made by the Southern Oregon Historical Society professional staff in consultation with representatives of the Confederated Tribes of the Grand Ronde Community of Oregon; the Cow Creek Band of Umpqua Indians of Oregon; and the Confederated Tribes of Siletz Indians of Oregon (previously listed as the Confederated Tribes of the Siletz Reservation). The following tribes were contacted without response: Confederated Tribes of Coos, Lower Umpqua and Siuslaw Indians of Oregon; Coquille Tribe of Oregon; and the Quartz Valley Indian Community of the Quartz Valley Reservation of California.

In the Federal Register (77 FR 51565-51566, August 24, 2012), paragraph eight, bullets three and six are corrected by replacing “the Confederated Tribes of the Grand Ronde Community of Oregon” with “the Confederate Tribes of the Grand Ronde Community of Oregon and the Confederated Tribes of Siletz Indians of Oregon (previously listed as the Confederated Tribes of the Siletz Reservation).”

Additional Requestors and Disposition

Representatives of any Indian tribe that believes itself to be culturally affiliated with the human remains or any other Indian tribe that believes it satisfies the criteria in 43 CFR 10.11(c)(1) should contact Tina Reuwsaat at the Southern Oregon Historical Society, 106 N. Central Avenue, Medford, OR 97520, telephone (541) 858-1724 ext. 1001, before January 17, 2013. Disposition of the human remains and associated funerary objects to the Grand Ronde Community of Oregon and the Confederated Tribes of Siletz Indians of Oregon (previously listed as the Confederated Tribes of the Siletz Reservation) may proceed after that date if no additional requestors come forward.

The Southern Oregon Historical Society is responsible for notifying the Confederated Tribes of the Grand Ronde Community of Oregon; the Cow Creek Band of Umpqua Indians of Oregon; and the Confederated Tribes of Siletz Indians of Oregon (previously listed as the Confederated Tribes of the Siletz Reservation) that this notice has been published.

Dated: October 29, 2012.
Melanie O'Brien,
Acting Manager, National NAGPRA Program.

[FR Doc. 2012-30464 Filed 12-17-12; 8:45 am]

BILLING CODE 4312-50-P